DEPARTMENT OF COMMERCE

National Oceanic and Atmospheric Administration

RIN 0648-XD169

Fisheries of the South Atlantic; South Atlantic Fishery Management Council; Public Meeting; Correction

AGENCY: National Marine Fisheries Service (NMFS), National Oceanic and Atmospheric Administration (NOAA), Commerce.

ACTION: Meetings of the South Atlantic Fishery Management Council's Habitat & Environmental Protection Advisory Panel (AP); King & Spanish Mackerel AP; and Snapper Grouper AP; Correction.

SUMMARY: The South Atlantic Fishery Management Council (SAFMC) will hold the AP meetings in North Charleston, SC.

DATES: The meetings will be held from 1 p.m. on Tuesday, April 1, 2014 until 12 noon on Friday, April 11, 2014.

ADDRESSES: Meeting address: The meetings will be held at the Crowne Plaza Hotel, 4831 Tanger Outlet Blvd., North Charleston, SC 29418; phone: (877) 227-6963 or (843) 744-4422; fax: (843) 744-4472.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: This notice was published in the Federal Register on March 14, 2014 (79 FR 14482). There is an agenda change under item 3 of the King and Spanish Mackerel AP Agenda.

The items of discussion in the individual meeting agendas are as follows:

Habitat & Environmental Protection AP Agenda, 1 p.m. on Tuesday, April 1, 2014 until 1 p.m. on Thursday, April 3, 2014

1. Update and develop Council Essential Fish Habitat (EFH) policy statements.

2. Receive updates on regional habitat and ecosystem characterization and modeling efforts.

3. Receive updates and provide input on regional ecosystem partner conservation efforts (e.g., South Atlantic Landscape Conservation Cooperative's Draft Conservation Blueprint).

4. Discuss development of the Council's Fishery Ecosystem Plan II, updates to EFH, and proposed new sections addressing forage fish/prey predator interactions, climate and fisheries and fishery oceanography.

5. Discuss updates to the Council's Fishery Ecosystem Plan.

6. Provide recommendations to the Council for consideration.

King & Spanish Mackerel AP Agenda, 1 p.m. on Monday, April 7, 2014 until 12 noon on Tuesday, April 8, 2014

1. Approve minutes from the April 2013 Mackerel AP Meeting.

2. Receive an update on the progress of Southeast Data, Assessment & Review (SEDAR) 38 (Gulf and South Atlantic King Mackerel). Discuss project and provide recommendations.

3. Receive an overview of the following amendments: Coastal Migratory Pelagics (CMP) Joint Amendment 24 (allocations); CMP Joint Amendment 26 (separate commercial permits) and CMP Framework Amendment 2 (Spanish Mackerel commercial trip limits). Discuss amendments and provide recommendations.

Snapper Grouper AP Agenda, 1:30 p.m. on Tuesday, April 8, 2014 until 12 noon on Friday, April 11, 2014

1. Review and provide recommendations on the following amendments: Regulatory Amendment 16 (removal of the Black Sea Bass pot closure); Amendment 22 (tags to track harvest); Amendment 29 (Only Reliable Catch Stocks, ORCS, and Gray Triggerfish management measures); Amendment 32 (Blueline Tilefish Annual Catch Limits, ACLs, and management measures); Regulatory Amendment 20 (Snowy Grouper); Dolphin Wahoo Amendment 7/Snapper Grouper Amendment 33 (transport of fillets); Regulatory Amendment 17 (Marine Protected Areas, MPAs); and the Generic Accountability Measures/Dolphin Allocation Amendment.

2. Receive presentations on MPAs and provide recommendations to the Council.

3. Receive a report on the Oculina Experimental Closed Area Evaluation.

4. Receive an update on Visioning activities.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: March 14, 2014.
Tracey L. Thompson,
Acting Deputy Director, Office of Sustainable Fisheries, National Marine Fisheries Service.

[FR Doc. 2014-06040 Filed 3-18-14; 8:45 am]

BILLING CODE 3510-22-P